DEPARTMENT OF STATE

[Public Notice: 10371]

Notice of Receipt of Request From the Government of the Republic of Ecuador Under Article 9 of the 1970 UNESCO Convention on the Means of Prohibiting and Preventing the Illicit Import, Export and Transfer of Ownership of Cultural Property

AGENCY: Department of State.

ACTION: Notice.

SUMMARY: Notice of receipt of request from Ecuador for cultural property protection.

FOR FURTHER INFORMATION CONTACT: Allison Davis, Cultural Heritage Center, Bureau of Educational and Cultural Affairs: 202-632-6305; culprop@state.gov.

SUPPLEMENTARY INFORMATION: The Government of Ecuador has made a request to the Government of the United States under Article 9 of the 1970 UNESCO Convention on the Means of Prohibiting and Preventing the Illicit Import, Export and Transfer of Ownership of Cultural Property. The United States Department of State received this request on February 7, 2018. Ecuador's request seeks U.S. import restrictions on archaeological and/or ethnological materials representing Ecuador's cultural patrimony from the pre-Columbian through Republican periods. Pursuant to the authority vested in the Assistant Secretary of State for Educational and Cultural Affairs, and pursuant to 19 U.S.C. 2602(f)(1), notification of the request is hereby published. A public summary of Ecuador's request and information about U.S. implementation of the 1970 UNESCO Convention will be available at the Cultural Heritage Center website: http://culturalheritage.state.gov.

Dated: March 21, 2018.
Jennifer Zimdahl Galt,
Acting Assistant Secretary, Bureau of Educational and Cultural Affairs, Department of State.

[FR Doc. 2018-06762 Filed 4-3-18; 8:45 am]

BILLING CODE 4710-05-P